SECURITIES AND EXCHANGE COMMISSION

Sunshine Act Meetings

TIME AND DATE: Notice is hereby given, pursuant to the provisions of the Government in Sunshine Act, Public Law 94-409, that the Securities and Exchange Commission Investor Advisory Committee will hold a telephonic meeting on Friday, January 24, 2020.

PLACE: The meeting will be open to the public via telephone at 1-844-721-7239 in the United States or (409) 207-6953 outside the United States, participant code 4443950.

STATUS: This meeting will begin at 11:30 a.m. (ET) and conclude at 1:15 p.m. and will be open to the public via telephone. The meeting will be webcast by audio-only on the Commission's website at www.sec.gov.

MATTERS TO BE CONSIDERED: On December 31, 2019, the Commission issued notice of the Committee meeting (Release No. 33-10739), indicating that the meeting is open to the public via telephone, and inviting the public to submit written comments to the Committee. This Sunshine Act notice is being issued because a quorum of the Commission may attend the meeting.

The agenda for the meeting includes: Welcome remarks; a discussion of the SEC's proxy voting advice and Rule 14a-8 proposed rulemakings (which may include a recommendation from the Investor as Owner Subcommittee); and a discussion of exchange rebate tier disclosure (which may include a recommendation of the Market Structure Subcommittee).

CONTACT PERSON FOR MORE INFORMATION: For further information and to ascertain what, if any, matters have been added, deleted or postponed; please contact Vanessa A. Countryman from the Office of the Secretary at (202) 551-5400.

Dated: January 14, 2020.
Vanessa A. Countryman,
Secretary.

[FR Doc. 2020-00799 Filed 1-15-20; 11:15 am]

BILLING CODE 8011-01-P